DEPARTMENT OF HOMELAND SECURITY

Transportation Security Administration

Intent To Request Extension From OMB of One Current Public Collection of Information: TSA infoBoards

AGENCY: Transportation Security Administration, DHS.

ACTION: 60-Day notice.

SUMMARY: The Transportation Security Administration (TSA) invites public comment on one currently approved Information Collection Request (ICR), Office of Management and Budget (OMB) control number 1652-0065, abstracted below that we will submit to OMB for an extension in compliance with the Paperwork Reduction Act (PRA). The ICR describes the nature of the information collection and its expected burden. TSA infoBoards (formerly WebBoards) are an information-sharing environment designed to serve stakeholders in the transportation security community and are used to disseminate mission-critical information. Utilizing and inputting information into TSA infoBoards is completely voluntary.

DATES: Send your comments by November 25, 2024.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0065; TSA infoBoards. TSA infoBoards were developed by TSA as part of its broad responsibilities and authorities under the Aviation and Transportation Security Act (ATSA), and delegated authority from the Secretary of Homeland Security, for “security in all modes of transportation . . . including security responsibilities . . . over modes of transportation that are exercised by the Department of Transportation.” ¹

¹ See Pub. L. 107-71 (115 Stat. 597, Nov. 19, 2001), codified at 49 U.S.C. 114 (d). The TSA Assistant Secretary's current authorities under ATSA have been delegated to him by the Secretary of Homeland Security. Section 403(2) of the Homeland Security Act (HSA) of 2002, Pub. L. 107-296 (116 Stat. 2315, Nov. 25, 2002), transferred all functions of TSA, including those of the Secretary of Transportation and the Under Secretary of Transportation of Security related to TSA, to the Secretary of Homeland Security. Pursuant to DHS Delegation Number 7060.2, the Secretary delegated to the Assistant Secretary (then referred to as the Administrator of TSA), subject to the Secretary's guidance and control, the authority vested in the Secretary with respect to TSA, including that in section 403(2) of the HSA.

The TSA infoBoards are a data management system that provides coordination and collaboration with parties that have an interest in transportation security and an appropriate level of need to access transportation security information, such as regulated parties and other industry stakeholders, Federal agencies, and state and local governments. It is located in a secure online environment and is accessible from the Homeland Security Information Network (HSIN) and TSA (for TSA staff only). The TSA infoBoards system disseminates mission-critical information to users inside and outside of the TSA organization. It provides an online portal allowing authorized users to obtain, post, and exchange information, access common resources, and communicate with similarly situated individuals. This system also integrates other security-related information and communications at the sensitive security information (SSI) level.

TSA infoBoards are primarily used for disseminating TSA mission-critical information, such as Security Directives (SD), compliance status, policy updates, and watchlists; however, some groups of stakeholders utilize infoBoards for collaboration and to upload transportation security information. InfoBoards allow stakeholders to filter alerts and information based on their particular needs, such as their regulated areas of operation or their treaty relationship for foreign government staff.

TSA infoBoards are used primarily by individuals with transportation security responsibilities, such as aircraft operators, airport security coordinators, and international transportation security coordinators. These individuals can voluntarily contact TSA to request access to TSA infoBoards; TSA does not require participation in TSA infoBoards.

TSA collects two types of information through TSA infoBoards, as described below. The collection is voluntary. TSA infoBoards users are not required to provide all information requested, but users who choose to withhold information may not receive the benefits of TSA infoBoards associated with that information collection.

1. User registration information. TSA collects this information to ensure only those members of the transportation community with a relevant interest in transportation security and with an appropriate level of need to access transportation security information can be allowed onto TSA infoBoards. Such registration information includes the user's name, professional contact information, agency/company, job title, employer, airport (optional), citizenship, regulatory interest, and employment verification contact information.

2. User's choice of infoBoards. TSA collects this information to select TSA infoBoards community(ies) appropriate for the particular user. Users are asked to submit their transportation security interest(s) and desired infoBoard(s) (to assess the user's qualifications and needs together with the user registration information).

TSA uses TSA Form 1427, TSA infoBoards User Account Request/Renewal, to collect the information. The form references an additional instrument, TSA Form 1430, Computer Access Agreement (CAA) External Personnel Only. This form is intended for the public, non-Department and TSA infoBoards users, and certifies understanding and acceptance of applicable policy and legal requirements concerning access to network resources within DHS/TSA.

Based on data observed since the previous approval, TSA estimates that there will be approximately 5,000 public users annually. Given this information, the total annual hour burden for this information collection for all respondents is estimated to be approximately 10,000 hours.

Dated: September 19, 2024.
Christina A. Walsh,
TSA Paperwork Reduction Act Officer, Information Technology.

[FR Doc. 2024-21792 Filed 9-23-24; 8:45 am]

BILLING CODE 9110-05-P